DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 5, 2001, through September 28, 2001.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation, Office of Special Programs, 5600 Fishers Lane, Room 8-A46, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Philip Erickson on behalf of Philip J. Erickson, Roaring Spring, Pennsylvania, Court of Federal Claims Number 01-0389V

2. Rebekah Smothers on behalf of Kienan Freeman, Tallahassee, Florida, Court of Federal Claims Number 01-0390V

3. Tammy Mahaffey, Newark, Oklahoma, Court of Federal Claims Number 01-0392V

4. Michael Doherty on behalf of Drew Doherty, Boston, Massachusetts, Court of Federal Claims Number 01-0393V

5. Jacqueline Wright on behalf of Jared Wright, Boston, Massachusetts, Court of Federal Claims Number 01-0394V

6. Kristal Flagg on behalf of Lance Flagg, Boston, Massachusetts, Court of Federal Claims Number 01-0395V

7. Ellen Shatz-Feldman, Las Vegas, Nevada, Court of Federal Claims Number 01-0399V

8. Sandy Rusk on behalf of Olivia Rusk, Fishers, Indiana, Court of Federal Claims Number 01-0403V

9. Patricia Johnson on behalf of Alicia Johnson, New York, New York, Court of Federal Claims Number 01-0405V

10. Yousuf Qureshi, Boston, Massachusetts, Court of Federal Claims Number 01-0406V

11. Anita and Joseph Weakland on behalf of Joseph M. Weakland, Bangler, Pennsylvania, Court of Federal Claims Number 01-0407V

12. Jan DeGrandchamp, Frazier Park, California, Court of Federal Claims Number 01-0413V

13. Roseanne Borrero, Rockledge, Florida, Court of Federal Claims Number 01-0417V

14. Ernestine Ventura on behalf of Adam Ventura, Boston, Massachusetts, Court of Federal Claims Number 01-0420V

15. Holly Clifford on behalf of Gregory Clifford, Deceased, Boston, Massachusetts, Court of Federal Claims Number 01-0424V

16. Kristie Thacker on behalf of Gabriel Faith Thacker, Deceased, Hazlehursat, Mississippi, Court of Federal Claims Number 01-0435V

17. Lisa and Robert Devore on behalf of Ryan Austin Devore, Louisville, Kentucky, Court of Federal Claims Number 01-0436V

18. Susan J. Haggerty on behalf of Joseph C. Haggerty, Jr., Union, New Jersey, Court of Federal Claims Number 01-0438V

19. Jeffrey Greco, Brooklyn, New York, Court of Federal Claims Number 01-0450V

20. Kim and Paul Garrett on behalf of Weslie Julia Annie Garrett, Houston, Texas, Court of Federal Claims Number 01-0452V

21. Raymond Gallup on behalf of Eric Gallup, Parsippany, New Jersey, Court of Federal Claims Number 01-0453V

22. Pamela Gard on behalf of Mitchell Gard, Muncie, Indiana, Court of Federal Claims Number 01-0458V

23. Joseph Hegarty on behalf of Joseph Michael Hegarty, Deceased, Reisterstown, Maryland, Court of Federal Claims Number 01-0463V

24. Barbara Potolicchio, South Weymouth, Massachusetts, Court of Federal Claims Number 01-0464V

25. Jennifer Hernandez on behalf of Micaela Hernandez, Deceased, Mesa, Arizona, Court of Federal Claims Number 01-0466V

26. Donna and Rick Kay on behalf of Rachel Kay, Vienna, Virginia, Court of Federal Claims Number 01-0467V

27. Karen Peachee, Boston, Massachusetts, Court of Federal Claims Number 01-0475V

28. Melony Eisenhower on behalf of Michael L. Bowes, Jr., Mill Hall, Pennsylvania, Court of Federal Claims Number 01-0481V

29. Barbara Cunningham and Phillip Young on behalf of April Young, Lee's Summit, Missouri, Court of Federal Claims Number 01-0483V

30. Sarah Freedman on behalf of Chana Freedman, Monticello, New York, Court of Federal Claims Number 01-0485V

31. Jill Haga on behalf of Michaela Haga, Vienna, Virginia, Court of Federal Claims Number 01-0491V

32. Pamela Coleman on behalf of John Coleman, Jr., Little Rock, Arkansas, Court of Federal Claims Number 01-0496V

33. Tambra Harris, Vienna, Virginia, Court of Federal Claims Number 01-0499V

34. Albert Asker on behalf of Benjamin Logan Asker, Vienna, Virginia, Court of Federal Claims Number 01-0500V

35. Kelly Knoke on behalf of Alice Svetic, Vienna, Virginia, Court of Federal Claims Number 01-0501V

36. Tiffany Drost, Vienna, Virginia, Court of Federal Claims Number 01-0502V

37. Diane Paliscak on behalf of Anthony Paliscak, Vienna, Virginia, Court of Federal Claims Number 01-0503V

38. Jeanne and John Gensch on behalf of Patrick Gensch, Vienna, Virginia, Court of Federal Claims Number 01-0504V

39. Sherry Wied on behalf of David Wied, Vienna, Virginia, Court of Federal Claims Number 01-0505V

40. Dawn and Jeff Partyka on behalf of Jacob Partyka, Vienna, Virginia, Court of Federal Claims Number 01-0506V

41. Jodi Miller on behalf of Richard Kjolberg, Jr., Duluth, Minnesota, Court of Federal Claims Number 01-0512V

42. Jennifer and James Hall on behalf of Emmallen Grace Hall, Deceased, Morristown, Tennessee, Court of Federal Claims Number 01-0514V

43. Priscilla Smith on behalf of Victoria Danielle Ellrod, Wildomar, California, Court of Federal Claims Number 01-0523V

44. Christina DeLong, Reading, Pennsylvania, Court of Federal Claims Number 01-0528V

45. Ronald Gura, Boston, Massachusetts, Court of Federal Claims Number 01-0531V

46. Rodney Boone on behalf of Rodney Emerson Boone, III, Lafayette, California, Court of Federal Claims Number 01-0532V

47. Paul Shirley, Boston, Massachusetts, Court of Federal Claims Number 01-0537V

48. Teressa and Anthony Richardson on behalf of Jenyssa Richardson, New York, New York, Court of Federal Claims Number 01-0545V

49. Randy Tucker, Shoshoni, Wyoming, Court of Federal Claims Number 01-0547V

50. Diana Hall on behalf of Marcellous Hall, Boston, Massachusetts, Court of Federal Claims Number 01-0554V

51. Lisa Visco on behalf of James Visco, Boston, Massachusetts, Court of Federal Claims Number 01-0555V

52. Susan Berry, Boston, Massachusetts, Court of Federal Claims Number 01-0556V

Dated: November 21, 2001.
Elizabeth M. Duke,
Acting Administrator.

[FR Doc. 01-29512 Filed 11-27-01; 8:45 am]

BILLING CODE 4165-15-P